DEPARTMENT OF THE INTERIOR

Office of the Secretary

National Invasive Species Council

AGENCY: Office of the Secretary, Interior.

ACTION: Final Version of the National Invasive Species Management Plan; Notice of Availability.

SUMMARY: The National Invasive Species Council is announcing the availability of the final version of the National Invasive Species Management Plan, “Meeting the Challenge.”

DATES: The National Invasive Species Management Plan was approved on January 18, 2001.

ADDRESSES: National Invasive Species Council, 1951 Constitution Avenue NW., Suite 320, Washington, DC 20240.

The final version of the National Invasive Species Management Plan is available on the Council's website, http://www.invasivespecies.gov. Copies may be obtained by contacting the Council Staff at (202) 208-6336; fax at (202) 208-1526; or e-mail at invasivespecies@ios.doi.gov.

FOR FURTHER INFORMATION CONTACT: Kelsey Passe, Program Analyst, National Invasive Species Council; E-mail: Kelsey Passe@ios.doi.gov; Phone (202) 208-6336; Fax: (202) 208-1526.

SUPPLEMENTARY INFORMATION: Executive Order 13112 on Invasive Species established the National Invasive Species Council (Council), which is chaired by the Secretaries of Agriculture, Commerce, and the Interior and includes the Departments of State, Treasury, Defense, and Transportation and the Environmental Protection Agency. The Order directed the Secretary of the Interior to establish an Invasive Species Advisory Committee (ISAC) including diverse stakeholders to advise the Council. The Order applies to all Federal agencies whose actions may affect the status of invasive species and requires agencies to identify such actions and to the extent practicable and permitted by law (1) take actions specified in the Order to address the problem consistent with their authorities and budgetary resources; and (2) not authorize, fund, or carry out actions that they believe are likely to cause or promote the introduction or spread of invasive species in the United States or elsewhere unless, “pursuant to guidelines that it has prescribed, the agency has determined and made public its determination that the benefits of such actions clearly outweigh the potential harm caused by invasive species; and that all feasible and prudent measures to minimize risk of harm will be taken in conjunction with the actions.” Although Executive Order 13112 applies to all Federal agencies, most of the duties required by the Executive Order are the responsibility of the eight Council Departments.

The Council was directed by the President to release the first edition of a National Invasive Species Management Plan (Plan) 18 months after the Order was issued, and to include performance-oriented goals and objectives and specific measures of success for Federal agency efforts concerning invasive species, update the Plan biennially, and evaluate and report on the success in achieving the goals and objectives of the Plan. The Plan is also to identify the personnel, other resources, and additional levels of coordination needed to achieve its goals and objectives. The purpose of the Plan is to provide a blueprint for Federal action in coordination with State, local, and private programs and international cooperation to prevent the introduction of invasive species, provide for their control, and minimize their economic, environmental, and human health impacts. The focus of the Plan is on those non-native species that cause or may cause significant negative impacts and do not provide an equivalent benefit to society.

In preparing the first edition of the Plan, the Council engaged in extensive consultation with many organizations and individuals with differing interests. Valuable guidance came from ISAC and members of six working groups made up of both Federal and non-federal experts under the auspices of the Advisory Committee, including: (1) International, (2) communication, outreach, and education, (3) policy and regulation, (4) risk analysis and prevention, (5) management, and (6) research, information sharing, documentation, and monitoring. The Plan contains a number of actions recommended by the working groups and discussed in the reports of the groups which are posted on the Council's website. The Council also heard from a wide range of organizations and individuals at five public listening sessions held in July 2000 around the country and through numerous written comments.

A draft Plan was made available for comment on the Council's website in early August of 2000, before the deadline set by the Executive Order. However, due to extensive revisions made in response to public comment and delays in hiring Council staff, the final version was not issued until January 18, 2001. On October 2, 2000, a Federal Register notice (65 FR 58783-58784) announced the availability of the draft Plan. In that notice, the Council solicited comments on the Plan for 45 days ending on November 16, 2000. In response to a number of requests submitted by interested persons, the Council extended the comment period by 15 days in a second notice published in the Federal Register on November 16, 2000 (65 FR 69320).

By December 1, 2000, the close of the extended comment period, the Council had received a total of 181 written comments. The comments were from private citizens; a Native American association; businesses and industry groups; academic institutions; scientific, conservation, and other non-governmental organizations; State, local, and Federal Government agencies; and several public/private partnerships. The commenters generally supported the goals of the Executive Order and the Plan; however, nearly all of the commenters offered specific opinions, suggestions, or criticisms regarding the content of the draft Plan.

The Council carefully considered each of the comments received and made numerous changes to the Plan to reflect many of the points raised in the comments. In some cases, however, commenters brought up issues that were outside the scope of the Plan, made specific recommendations regarding detailed operational matters, or questioned why the activities of particular groups were either mentioned or overlooked. Other commenters sought firm funding or action commitments that cannot be made until the implementation stage of the Plan. Wherever possible and appropriate, the Council will consider those comments that were not integrated into the final version of the Plan that deal with implementation issues during the implementation phase of the Plan.

The first edition of the Plan provides a general blueprint for action to deal with the threats posed by invasive species; however, many of the details of the actions called for will require further development in the implementation phase. At that point, specific measures of success, as well as the personnel and other resources needed to achieve the Plan's goals, will be described. The action items included in the Plan outline an array of prospective approaches for preventing the introduction and spread of invasive species. The Plan provides for development of an oversight mechanism to ensure agency accountability and calls on Council Departments to submit annual reports summarizing their progress in implementing the Plan.

The final version of the Plan was approved by the eight Council member agencies on January 18, 2001, and is now available to the public. The Plan is available on the Council's website; in addition, you may request a hard copy of the Plan by contacting the Council staff. In the near future, printed copies of the Plan will be made available and an order form will be posted on the Council's website.

Specific information regarding the availability of the Plan can be found in the ADDRESSES section of this notice.

Lori Williams,
Executive Director, National Invasive Species Council.

[FR Doc. 01-5979 Filed 3-9-01; 8:45 am]

BILLING CODE 4310-RK-P